NATIONAL TRANSPORTATION SAFETY BOARD

SES Performance Review Board

AGENCY: National Transportation Safety Board.

ACTION: Notice; Correction.

SUMMARY: The NTSB published a document in the Federal Register on October 1, 2013, giving Notice of the appointment of members of the National Transportation Safety Board, Performance Review Board (PRB). This document contained incorrect names.

FOR FURTHER INFORMATION CONTACT: Emily T. Carroll, Chief, Human Resources Division, Office of Administration, National Transportation Safety Board, 490 L'Enfant Plaza SW., Washington, DC 20594-0001, (202)314-6233.

Correction

SUPPLEMENTARY INFORMATION: Section 4314(c)(1) through (5) of Title 5, United States Code requires each agency to establish, in accordance with regulations prescribed by the Office of Personnel Management, one or more SES Performance Review Boards. The board reviews and evaluates the initial appraisal of a senior executive's performance by the supervisor and considers recommendations to the appointing authority regarding the performance of the senior executive.

The following have been designated as members of the Performance Review Board of the National Transportation Safety Board:

The Honorable Christopher A. Hart, Member, National Transportation Safety Board; PRB Chair.

The Honorable Robert L. Sumwalt, III; Member, National Transportation Safety Board.

Steven E. Goldberg, Chief Financial Officer, National Transportation Safety Board.

John Cavolowsky, Director, Airspace Systems Program Office, National Aeronautics and Space Administration.

Jerold Gidner, Deputy Director, Office of Strategic Employee and Organizational Development, Department of the Interior.

David L. Mayer, Managing Director, National Transportation Safety Board (substitute only for Mr. Goldberg's rating review).

Anthony P. Scardino, Chief Financial Officer, U.S. Patent and Trademark Office (Alternate).

Candi R. Bing,
Federal Register Coordinator.

[FR Doc. 2013-26588 Filed 11-5-13; 8:45 am]

BILLING CODE P